ENVIRONMENTAL PROTECTION AGENCY

[FRL-11457-01-R3]

Clean Air Act Operating Permit Program; Order on Petitions for Objection to State Operating Permit for United States Steel Corporation, Mon Valley Works Clairton Plant

AGENCY: Environmental Protection Agency (EPA).

ACTION: Notice of final order on petition.

SUMMARY: The Environmental Protection Agency (EPA) Administrator signed an order dated September 18, 2023, on two petitions, each dated March 6, 2023, granting in part and denying in part a petition from the Environmental Integrity Project (EIP), the Clean Air Council (CAC), and Pennsylvania's Future (PennFuture) (the EIP Petition), and granting in full a separate petition from the Group Against Smog and Pollution (GASP) (the GASP Petition). The petitions requested that the EPA object to a Clean Air Act (CAA) title V operating permit issued by the Allegheny County Health Department (ACHD) to the U.S. Steel Mon Valley Works Clairton Plant (U.S. Steel, Clairton) for its by-products coke plant located in Clairton, Allegheny County, Pennsylvania.

FOR FURTHER INFORMATION CONTACT: David Talley, EPA Region III, (215) 814-2117, talley.david@epa.gov. The final order and petition are available electronically at: www.epa.gov/title-v-operating-permits/title-v-petition-database.

SUPPLEMENTARY INFORMATION: EPA received the EIP Petition and the GASP Petition, each dated March 6, 2023, requesting that the EPA object to the issuance of operating permit no. 0052-OP22, issued by ACHD to U.S. Steel, Clairton in Allegheny County, Pennsylvania. On September 18, 2023, the EPA Administrator issued an order granting in part and denying in part the EIP petition and granting in full the GASP petition. The order itself explains the basis for the EPA's decision.

Sections 307(b) and 505(b)(2) of the CAA provide that a petitioner may request judicial review of those portions of an order that deny issues in a petition. Any petition for review shall be filed in the United States Court of Appeals for the appropriate circuit no later than December 18, 2023.

Cristina Fernández,
Director, Air and Radiation Division, Region III.

[FR Doc. 2023-22877 Filed 10-16-23; 8:45 am]

BILLING CODE 6560-50-P